DEPARTMENT OF ENERGY

Electricity Advisory Committee

AGENCY: Office of Electricity, Department of Energy.

ACTION: Notice of open meeting.

SUMMARY: This notice announces a meeting of the Electricity Advisory Committee (EAC). The Federal Advisory Committee Act (FACA) requires that public notice of these meetings be announced in the Federal Register. This meeting will be held virtually for members of the public and the EAC members.

DATES: Friday April 21, 2023; 3:00-4:00 p.m. EST.

ADDRESSES: Virtual meeting for members of the public, EAC members, Department of Energy (DOE) representatives, agency liaisons, and EAC support staff. To register to attend virtually, please visit the meeting website: https://www.energy.gov/oe/april-21-2023-electricity-advisory-committee-meeting.

FOR FURTHER INFORMATION CONTACT: Jayne Faith, Designated Federal Officer, Office of Electricity, U.S. Department of Energy, Washington, DC 20585; Telephone: (202) 586-2983 or Email: Jayne.Faith@hq.doe.gov.

SUPPLEMENTARY INFORMATION:

Purpose of the Committee: The EAC was established in accordance with the provisions of FACA, as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda: The meeting will start at 3:00 p.m. Eastern Time on April 21, 2023. Agenda items for this meeting include a discussion of a draft recommendation concerning national transmission corridors and public comments. The meeting will conclude at approximately at 4:00 p.m. The meeting agenda and times may change to accommodate EAC business. For EAC agenda updates, see the EAC website at: https://www.energy.gov/oe/april-21-2023-electricity-advisory-committee-meeting.

Public Participation: The meeting is open to the public via a virtual meeting option. Individuals who would like to attend must register for the meeting here: https://www.energy.gov/oe/april-21-2023-electricity-advisory-committee-meeting. Individuals and representatives of organizations who would like to offer comments and suggestions may do so during the meeting. Approximately 20 minutes will be reserved for public comments. Time allotted per speaker will depend on the number who wish to speak but will not exceed three minutes. The Designated Federal Officer is empowered to conduct the meeting in a fashion that will facilitate the orderly conduct of business. Those wishing to speak should register to do so by sending an email to Ms. Jayne Faith at Jayne.Faith@hq.doe.gov, no later than 5:00 p.m. on April 20, 2023. Anyone who is not able to attend the meeting, or for whom the allotted public comments time is insufficient to address pertinent issues with the EAC, is invited to send a written statement identified by “Electricity Advisory Committee April 2023 Meeting,” to Ms. Jayne Faith at Jayne.Faith@hq.doe.gov.

Minutes: A recording and minutes of the EAC meeting will be posted on the EAC web page at www.energy.gov/oe/april-21-2023-electricity-advisory-committee-meeting. They can also be obtained by contacting Ms. Jayne Faith at the address above.

Signed in Washington, DC, on March 28, 2023.
LaTanya R. Butler,
Deputy Committee Management Officer.

[FR Doc. 2023-06722 Filed 3-30-23; 8:45 am]

BILLING CODE 6450-01-P